ENVIRONMENTAL PROTECTION AGENCY

[FRL-9958-58-OAR]

Minor Revisions to AP-42 Section 13.5: Industrial Flares

AGENCY: Environmental Protection Agency (EPA).

ACTION: Notice of final action.

SUMMARY: On December 14, 2016, the Environmental Protection Agency (EPA) issued minor revisions to AP-42 Section 13.5: Industrial Flares. AP-42 is the primary compilation of the EPA's emissions factor information. The EPA finalized these revisions in compliance with a settlement agreement entered into with Air Alliance Houston, Community In-Power and Development Association, Inc., Louisiana Bucket Brigade, and Texas Environmental Justice Advocacy Services (“Plaintiffs”).

ADDRESSES: You may view this final action and the supporting information electronically at: https://www.epa.gov/air-emissions-factors-and-quantification/new-and-revised-emissions-factors-flares-and-new-emissions.

FOR FURTHER INFORMATION CONTACT: Ms. Gerri Garwood, Measurement Policy Group (MPG), Sector Policies and Programs Division (D243-05), Office of Air Quality Planning and Standards, U.S. Environmental Protection Agency, Research Triangle Park, North Carolina 27711, telephone number: (919) 541-2406; fax number: (919) 541-1039; and email address: garwood.gerri@epa.gov.

SUPPLEMENTARY INFORMATION: As described above, the EPA finalized these actions to fulfill its obligations under a settlement agreement, which resolves a petition for judicial review on actions the EPA took on April 20, 2015. On April 20, 2015, the EPA issued new and revised emissions factors for flares and other refinery process units and issued its final determination that revisions to existing emissions factors for tanks and wastewater treatment systems were not necessary in order to fulfill its obligations under a consent decree. Plaintiffs alleged that the EPA failed to perform nondiscretionary duties pursuant to Clean Air Act (CAA) section 130 to review, and, if necessary, revise the emissions factors for volatile organic compounds (VOC) for flares, liquid storage tanks (“tanks”), and wastewater collection, treatment and storage systems (“wastewater treatment systems”) at least once every 3 years. See Air Alliance Houston, et al. v. EPA, Case No. 15-1210 (D.C. Cir.) and Air Alliance Houston, et al. v. McCarthy, No. 1:13-cv-00621-KBJ (D.D.C.).

The settlement agreement outlined 20 specific Source Classification Codes (SCCs) that Plaintiffs argued should be included in Tables 13.5-1 and 13.5-2 of AP-42, Compilation of Air Pollutant Emission Factors. AP-42 is the primary compilation of EPA's emissions factor information. Additionally, Plaintiffs sought minor clarifications to the text in Section 13.5 of AP-42, as well as an update to the VOC emissions factor due to errors in the original calculation.

Per the requirements of the settlement agreement, this final action was issued by December 16, 2016. To support this action, we developed a memorandum to document our determinations in regards to the 20 SCCs specified in the settlement agreement. We also revised section 13.5 of AP-42, the supporting background documentation, and the previously issued report, Review of Emissions Test Reports for Emissions Factors Development for Flares and Certain Refinery Operations. The SCC determination memorandum and the revised report, along with a link to the updated section in AP-42 and supporting background documentation, were posted on the Web site listed in the ADDRESSES section of this document on December 14, 2016.

These actions constitute final agency action of national applicability for purposes of section 307(b)(1) of the CAA. Pursuant to CAA section 307(b)(1), judicial review of these final agency actions may be sought only in the United States Court of Appeals for the District of Columbia Circuit. Petitions for review must be filed by March 24, 2017. Judicial review of these final agency actions may not be obtained in subsequent proceedings, pursuant to CAA section 307(b)(2). These actions are not a rulemaking and are not subject to the various statutory and other provisions applicable to a rulemaking.

Dated: January 13, 2017.
Stephen Page,
Director, Office of Air Quality Planning and Standards.

[FR Doc. 2017-01263 Filed 1-19-17; 8:45 am]

BILLING CODE 6560-50-P